DEPARTMENT OF EDUCATION

Office of English Language Acquisition, Language Enhancement, and Academic Achievement for Limited English Proficient Students; Overview Information; Foreign Language Assistance Program—Local Educational Agencies; Notice Inviting Applications for New Awards for Fiscal Year (FY) 2008

[Catalog of Federal Domestic Assistance (CFDA) Number: 84.293B].

Dates: Applications Available: March 27, 2008.

Deadline for Notice of Intent to Apply: April 11, 2008.

Deadline for Transmittal of Applications: April 30, 2008.

Deadline for Intergovernmental Review: June 30, 2008.

Full Text of Announcement

I. Funding Opportunity Description

Purpose of Program: The Foreign Language Assistance Program (FLAP) provides grants to local educational agencies (LEAs) for innovative model programs providing for the establishment, improvement, or expansion of foreign language study for elementary and secondary school students. Under this competition, as required by the fiscal year 2008 Appropriations Act, 5-year grants will be awarded to LEAs to work in partnership with one or more institutions of higher education (IHEs) to establish or expand articulated programs of study in languages critical to United States national security in order to enable successful students to achieve a superior level of proficiency in those languages as they advance from elementary school through high school and college. In addition, an LEA that receives a grant under this program must use the funds to support programs that show the promise of being continued beyond the grant period and demonstrate approaches that can be disseminated to and duplicated in other LEAs. Projects supported under this program may also include a professional development component.

Priorities: This notice involves an absolute priority and four competitive preference priorities. The absolute priority is from Public Law 110-161, the Consolidated Appropriations Act of 2008, Division G, Title III, School Improvement Programs. In accordance with 34 CFR 75.105(b)(2)(iv), Competitive Preference Priorities #1 through #4 are from section 5493 of the Foreign Language Assistance Act of 2001 (20 U.S.C. 7259b).

Absolute Priority: For FY 2008, and any subsequent year in which we make awards from the list of unfunded applicants from this competition, this priority is an absolute priority. Under 34 CFR 75.105(c)(3) we consider only applications that meet this priority.

This priority is:

Sequential Study of Critical Languages

This priority supports projects to establish or expand articulated programs of study in foreign language learning that exclusively teach one or more of the following languages critical to United States national security—Arabic, Chinese, Korean, Japanese, Russian, and languages in the Indic, Iranian, and Turkic language families. Such programs must be designed to enable successful students to achieve a superior level of proficiency in those languages as they advance from elementary school through high school and college.

The following definitions apply to this priority:

(1) Articulated program of study. Each grade level of the elementary-school-through-college foreign language program is designed to expand sequentially on the achievement students have made in the previous level, with a goal of achieving a superior level of language proficiency.

(2) Superior level of language proficiency. A proficiency level of 3, as measured by the Federal Interagency Language Roundtable (ILR), achieved by a student.

Competitive Preference Priorities: For FY 2008, and any subsequent year in which we make awards from the list of unfunded applicants from this competition, these priorities are competitive preference priorities. Under 34 CFR 75.105(c)(2)(ii) we give preference to an application that meets one or more of these priorities over an application of comparable merit that does not meet the priorities.

Note: There is no advantage to addressing all four competitive preference priorities. Creating a program around all four priorities may result in an unfocused program design. We give preference to applications describing programs that address any of these priorities.

These priorities are:

Competitive Preference Priority #1. Projects that include intensive summer foreign language programs for professional development.

Competitive Preference Priority #2. Projects that link non-native English speakers in the community with the schools in order to promote two-way language learning.

Competitive Preference Priority #3. Projects that make effective use of technology, such as computer-assisted instruction, language laboratories, or distance learning, to promote foreign language study.

Competitive Preference Priority #4. Projects that promote innovative activities, such as foreign language immersion, partial foreign language immersion, or content-based instruction.

Waiver of Proposed Rulemaking: Under the Administrative Procedure Act (5 U.S.C. 553) the Department generally offers interested parties the opportunity to comment on rules. Section 437(d)(1) of the General Education Provisions Act (GEPA), however, allows the Secretary to exempt from rulemaking rules governing the first grant competition under a new or substantially revised program authority. This program was substantially revised by Public Law 110-161, the Consolidated Appropriations Act of 2008, Division G, Title III, School Improvement Programs and, therefore, qualifies for this exemption. In order to ensure timely grant awards, the Secretary has decided to forgo public comment under section 437(d)(1) of GEPA on the absolute priority and definitions in this notice. The absolute priority and definitions will apply to the FY 2008 grant competition only.

Program Authority: 20 U.S.C. 7259a-7259b and Public Law 110-161, the Consolidated Appropriations Act of 2008, Division G, Title III, School Improvement Programs.

Applicable Regulations: The Education Department General Administrative Regulations (EDGAR) in 34 CFR parts 75, 77, 79, 80, 81, 82, 84, 85, 97, 98 and 99.

II. Award Information

Type of Award: Discretionary grants.

Estimated Available Funds: $2,360,000.

Contingent upon the availability of funds and the quality of applications, we may make additional awards in FY 2009 from the list of unfunded applicants from this competition.

Estimated Range of Awards: $100,000-$300,000.

Estimated Average Size of Awards: $200,000.

Estimated Number of Awards: 12.

Note: The Department is not bound by any estimates in this notice.

Project Period: 60 months. Applications that request funding for a project period of other than 60 months will be deemed ineligible and will not be read.

III. Eligibility Information

1. Eligible Applicants: LEAs, including charter schools that are considered LEAs under State law, in partnership with one or more institutions of higher education.

2. Cost Sharing or Matching: Section 5492(c)(2) of the Foreign Language Assistance Act of 2001 (20 U.S.C. 7259a(c)) requires that the Federal share of a project funded under this program for each fiscal year be 50 percent. For example, an LEA requesting $100,000 in Federal funding for its foreign language program each fiscal year must match that amount with $100,000 of non-Federal funding for each year. Section 80.24 of EDGAR addresses Federal cost-sharing requirements.

If an LEA does not have adequate resources to pay the non-Federal share of the cost, a waiver may be requested. An LEA may request a waiver of part or all of the matching requirement. The waiver request should be submitted by letter to the Secretary of Education and included in the application. An authorized representative of the school district, such as the Superintendent of Schools, should sign the letter. Further information on submitting a waiver request is included in the application package.

The request for waiver should—

• Provide an explanation, supported with appropriate documentation, of the basis for the LEA's position that it does not have adequate resources to pay the non-Federal share of the cost of the project.

• Specify the amount, if any, of the non-Federal share that the LEA can pay.

We recommend that LEAs that are unable to provide the required level of non-Federal support for their project provide as much non-Federal support as possible.

IV. Application and Submission Information

1. Address to Request Application Package: Yvonne Putney-Mathieu, U.S. Department of Education, 400 Maryland Avenue, SW., Room 10070, PCP, Washington, DC 20202-6500. Telephone: (202) 245-7155, or by e-mail: yvonne.mathieu@ed.gov.

Note: Please include “FLAP Application Request” in the subject heading of your e-mail.

If you use a telecommunications device for the deaf (TDD), call the Federal Relay Service (FRS), toll free, at 1-800-877-8339.

Individuals with disabilities can obtain a copy of the application package in an alternative format, e.g., Braille, large print, audiotape, or computer diskette) by contacting the program contact person listed in this section.

2. Content and Form of Application Submission: Requirements concerning the content of an application, together with the forms you must submit, are in the application package for this competition.

Notice of Intent to Apply: If you intend to apply for a grant under this competition, contact Yvonne Mathieu by e-mail: yvonne.mathieu@ed.gov.

Note: Please include “FLAP Intent to Apply” in the subject heading of your e-mail. The e-mail should specify: (1) The LEA name, (2) city, (3) state, (4) number of grants, and (5) language(s) of instruction. We do not consider an application that does not comply with the deadline requirements established in this notice. However, we will consider an application submitted by the deadline date for transmittal of applications, even if the applicant did not provide us notice of its intent to apply.

Page Limit: The application narrative (Part III of the application) is where you, the applicant, address the selection criteria that reviewers use to evaluate your application. You must limit the application narrative to the equivalent of no more than 35 pages using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the two-page abstract. However, the page limit does apply to all of the application narrative section in Part III.

We will reject your application if you exceed the page limit or if you apply other standards and exceed the equivalent of the page limit.

3. Submission Dates and Times:

Applications Available: March 27, 2008.

Deadline for Notice of Intent to Apply: April 11, 2008.

Deadline for Transmittal of Applications: April 30, 2008.

Applications for grants under this program may be submitted electronically using the Grants.gov Apply site (http://www.grants.gov), or in paper format by mail or hand delivery. For information (including dates and times) about how to submit your application electronically, or by mail or hand delivery, please refer to section IV.6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice. Deadline for Intergovernmental Review: June 30, 2008.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section in this notice.

6. Other Submission Requirements: Applications for grants under this program may be submitted electronically or in paper format by mail or hand delivery.

a. Electronic Submission of Applications

To comply with the President's Management Agenda, we are participating as a partner in the Governmentwide Grants.gov Apply site. The Foreign Language Assistance Program, CFDA Number 84.293B, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Foreign Language Assistance Program at http://www.Grants.gov. You must search for the downloadable application package for this program by the CFDA number. Do not include the CFDA number's alpha suffix in your search (e.g., search for 84.293, not for 84.293B).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues With the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact either person listed elsewhere in this notice under FOR FURTHER INFORMATION CONTACT and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail

If you submit your application in paper format by mail (through the U.S. Postal Service or a commercial carrier), you must mail the original and two copies of your application, on or before the application deadline date, to the Department at the applicable following address:

By mail through the U.S. Postal Service: U.S. Department of Education, Application Control Center, Attention: (CFDA Number 84.293B), 400 Maryland Avenue, SW., Washington, DC 20202-4260, or

By mail through a commercial carrier: U.S. Department of Education, Application Control Center—Stop 4260, Attention: (CFDA Number 84.293B), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.293B), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The Secretary evaluates an application by determining how well the proposed project meets the following selection criteria. The selection criteria for this program are from 34 CFR 75.210 of EDGAR. Applicants are not required to address the criteria as outlined in the Notes. However, the Notes we have included are guidance to assist applicants in understanding each criterion as they prepare their applications and are not required by statute or regulation. In addressing each criterion, applicants are encouraged to make explicit connections to relevant aspects of the Purpose of the Program including the Absolute Priority as described in section I of this notice. The maximum score for all of these criteria is 100 points. The maximum score for each criterion is indicated in parentheses.

(a) Need for project. (5 points)

The Secretary considers the need for the proposed project. In determining the need for the proposed project, the Secretary considers the following factor:

(1) The extent to which specific gaps or weaknesses in services, infrastructure, or opportunities have been identified and will be addressed by the proposed project, including the nature and magnitude of those gaps or weaknesses.

Notes for (a) Need for project: The Secretary encourages applicants to describe current characteristics of the LEA and targeted schools, including the specific foreign languages offered and, for each foreign language offered, the number of students enrolled in classes, grade levels served or, in the case of secondary education, the course levels served; the number of schools providing instruction; the type of foreign language instructional model provided; and, the minutes of instruction per day and number of days per week.

Applicants are also encouraged to address how the proposed project will increase enrollment in critical foreign languages during the course of the grant by adding languages, adding grades or course levels, recruiting students, and expanding to additional schools. Finally, applicants are encouraged to describe how the proposed project will improve instruction by hiring highly qualified teachers, improving teacher skills through professional development, expanding the curriculum, and increasing the minutes of instruction per day or week.

(b) Quality of the project design. (60 points)

The Secretary considers the quality of the design of the proposed project. In determining the quality of the design of the proposed project, the Secretary considers the following factors:

(1) The extent to which the goals, objectives, and outcomes to be achieved by the proposed project are clearly specified and measurable.

(2) The extent to which the design for implementing and evaluating the proposed project will result in information to guide possible replication of project activities or strategies, including information about the effectiveness of the approach or strategies employed by the project.

(3) The extent to which the proposed project is designed to build capacity and yield results that will extend beyond the period of Federal financial assistance.

(4) The extent to which the design of the proposed project reflects up-to-date knowledge from research and effective practice.

(5) The extent to which the proposed project will establish linkages with other appropriate agencies and organizations providing services to the target population.

(6) The extent to which the proposed project is part of a comprehensive effort to improve teaching and learning and support rigorous academic standards for students.

Notes for (b) Quality of the project design—factors 1 through 6: The Secretary encourages applicants to address the factors under this criterion by discussing the extent to which the proposed project addresses key components of project design, such as measurable objectives for all Government Performance and Results Act (GPRA) measures, including measures of improved student foreign language proficiency and expected student achievement. Further, the applicant is encouraged to describe the extent to which the proposed project will use its ambitious project objectives and will ensure that they are challenging, raise expectations, provide ways for students to demonstrate progress, and are specific to each year served by the grant. Finally, the applicant is encouraged to describe the extent to which performance guidelines for K-12 students are incorporated by targeting the student proficiency level of Advanced, as measured by the American Council on the Teaching of Foreign Languages (ACTFL), for students exiting the K-12 program.

The Secretary encourages applicants to discuss their plans to develop and implement an articulated curriculum with minimal content repetition, so that students in the project will, when they graduate from high school, have the skills needed to achieve a superior level of proficiency by the end of an undergraduate program.

The Secretary encourages applicants to address the extent to which the proposed project describes how it will disseminate its innovative model and best practices for duplication by other LEAs.

The Secretary encourages applicants to describe the specific assessments to be used or, if assessments are not available, how assessments will be developed and how assessment results will be used to inform decisions on instruction and articulation.

The Secretary encourages applicants to describe a plan to carry out activities under the grant as part of their required partnership with one or more IHEs, including how each member will be involved in the planning, development, and implementation of the project; the resources to be provided by each partner; the rationale for selecting the partner(s); the specific activities that the partner(s) will contribute to the grant during each year of the project; and the identity of each member of the partnership, including contact information, with a one-page letter of commitment from the partner(s) in an appendix to the application narrative.

The Secretary encourages applicants to address the commitment of partner(s) to building local capacity so that the program will be institutionalized and sustained after Federal funds are expended.

The Secretary encourages applicants to discuss the overall project model, its key components, and the degree to which the model's key components are based on sound research and practice.

The Secretary encourages applicants to include evidence of how they will establish linkages with the State educational agency, foreign language organizations, community-based organizations, and the heritage communities of the target language(s) in order to support the program. Further, the Secretary encourages applicants to address the extent to which the proposed project encourages parental involvement.

Finally, the Secretary encourages applicants to include information on how they will use State and national standards for foreign language learning (including standards related to communication, cultures, connections, comparisons, and communities) as a framework for teaching and learning.

(c) Quality of project personnel. (10 points)

The Secretary considers the quality of the personnel who will carry out the proposed project. In determining the quality of project personnel, the Secretary considers the extent to which the applicant encourages applications for employment from persons who are members of groups that have traditionally been underrepresented based on race, color, national origin, gender, age, or disability. In addition, the Secretary considers the following factors:

(1) The qualifications, including relevant training and experience, of the project director.

(2) The qualifications, including relevant training and experience, of key project personnel.

Note for (c) Quality of project personnel—factors 1 and 2: The Secretary encourages applicants to address the factors under this criterion by including position descriptions (not resumes) for the project director and other key personnel. Further, the applicant is encouraged to describe the qualifications, including relevant training and experience, of current district employees who will be teaching critical languages, and, if applicable, how the proposed project plans to recruit highly qualified teachers of critical languages. Finally the applicant is encouraged to include the qualifications, including relevant training and experience, of other key project personnel and consultants.

(d) Quality of the management plan. (10 points)

The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The extent to which the time commitments of the project director and other key project personnel are appropriate and adequate to meet the objectives of the proposed project.

Notes for (d) Quality of the management plan—factors 1 and 2: Section 75.112 of EDGAR requires an applicant to include a narrative that describes how and when, in each budget period of the project, the applicant plans to meet each project objective. The Secretary encourages applicants to address the factors under this criterion by including in this narrative a clear, well thought-out implementation plan that includes annual timelines, key project milestones, a schedule of activities with sufficient time for developing an adequate implementation plan, and the persons responsible for each management activity. The Secretary encourages applicants to include the percentage of time the project director, partner staff, consultants, and other key personnel will spend on the project. Finally, each applicant is encouraged to address this criterion by describing the roles of the LEA and its IHE partner(s) in each phase of the proposed project.

(e) Quality of the project evaluation. (15 points)

The Secretary considers the quality of the evaluation to be conducted of the proposed project. In determining the quality of the evaluation, the Secretary considers the following factors:

(1) The extent to which the methods of evaluation are thorough, feasible, and appropriate to the goals, objectives, and outcomes of the proposed project.

(2) The extent to which the methods of evaluation include the use of objective performance measures that are clearly related to the intended outcomes of the project and will produce quantitative and qualitative data to the extent possible.

(3) The extent to which the methods of evaluation will provide performance feedback and permit periodic assessment of progress toward achieving intended outcomes.

Notes for (e) Quality of the project evaluation—factors 1 through 3. A strong evaluation plan should be included in the application narrative and should be used, as appropriate, to shape the development of the project from the beginning of the grant period. The plan should include benchmarks to monitor progress toward specific project objectives and also outcome measures to assess the impact on teaching and learning or other important outcomes for project participants. More specifically, the plan should identify the individual or organization that has agreed to serve as evaluator for the project and describe the qualifications of that evaluator. The applicant is encouraged to describe how it will select an independent, objective evaluator who has experience in evaluating foreign language programs and who will play an active role in the design and development of the project. The plan should describe the evaluation design, indicating: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information both about success at the initial site and effective strategies for replication in other settings. Applicants are encouraged to devote an appropriate level of resources to project evaluation.

The Secretary encourages applicants to address the factors under this criterion by describing how the evaluation plan is aligned with the goals, objectives and activities described in the Quality of Project Design criterion. In addition, each applicant is encouraged to provide how each objective will be evaluated and when the applicant will collect, analyze, and report quantitative and qualitative data. (The specific performance measures established for the overall Foreign Language Assistance Program are discussed under Performance Measures in section VI of this notice.) Grantees are required to submit annual performance reports for each of the first four years of the grant and a final evaluation at the end of the fifth year. Further, the Secretary encourages applicants to address this criterion by describing how they will monitor progress toward specific project objectives and outcome measures, in order to assess the impact on teaching and learning or other important project outcomes. Each applicant is encouraged to describe how it will monitor progress in meeting annual targets established for project objectives, as well as for the GPRA measures.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for a two-day meeting for project directors to be held in Washington, DC.

4. Reporting: At the end of your project period, you must submit a final performance report, including financial information, as directed by the Secretary. If you receive a multi-year award, you must submit an annual performance report that provides the most current performance and financial expenditure information as specified by the Secretary in 34 CFR 75.118. The Secretary may also require more frequent performance reports under 34 CFR 75.720(c). For specific requirements on reporting, please go to http://www.ed.gov/fund/grant/apply/appforms/appforms.html.

5. Performance Measures: In response to the Government Performance and Results Act (GPRA), the Department developed three objectives for evaluating the overall effectiveness of the Foreign Language Assistance Program (FLAP) LEA program.

Objective 1: To expand foreign language study for students served by FLAP.

Measure 1.1 of 2: The number of students participating in foreign language instruction in the target languages(s) in the schools served by FLAP.

Measure 1.2 of 2: The number of minutes of foreign language instruction in the target languages(s) provided in the schools served by FLAP.

Objective 2: To expand foreign language study in critical languages for students served by the FLAP program.

Measure 2.1 of 1: The number of students participating in critical languages in the schools served by FLAP.

Objective 3: To improve the foreign language proficiency of students served by FLAP.

Measure 3.1 of 1: The number of students in FLAP projects who meet ambitious project objectives for foreign language proficiency.

We will expect each LEA funded under this competition to document how its project is helping the Department meet these performance measures. Grantees will be expected to report on progress in meeting these performance measures for FLAP in their Annual Performance Report and in their Final Performance Report.

VII. Agency Contacts

FOR FURTHER INFORMATION CONTACT: Rebecca Richey, U.S. Department of Education, 400 Maryland Avenue, SW., Potomac Center Plaza, room 10080, Washington, DC 20202. Telephone: (202) 245-7133, or by e-mail: rebecca.richey@ed.gov or Sharon Coleman, U.S. Department of Education, 400 Maryland Avenue, SW., Potomac Center Plaza, room 10071, Washington, DC 20202. Telephone: (202) 245-7124, or by e-mail: sharon.coleman@ed.gov.

If you use TDD, call FRS, toll free, at 1-800-877-8339.

VIII. Other Information

Alternative Format: Individuals with disabilities can obtain this document and a copy of the application package in an alternative format (e.g., Braille, large print, audiotape, or computer diskette) on request to the program contact persons listed under FOR FURTHER INFORMATION CONTACT in section VII in this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 19, 2008.
Margarita P. Pinkos,
Assistant Deputy Secretary and Director, Office of English Language Acquisition, Language Enhancement, and Academic Achievement for Limited English Proficient Students.

[FR Doc. E8-6236 Filed 3-26-08; 8:45 am]

BILLING CODE 4000-01-P